DEPARTMENT OF ENERGY

Federal Energy Regulatory Commission

Combined Notice of Filings #2

Take notice that the Commission received the following electric rate filings:

Docket Numbers: ER10-1702-002; ER10-1726-003; ER10-1671-003.

Applicants: RRI Energy Services, LLC, GenOn Wholesale Generation, LP, Genon Power Midwest, LP.

Description: Request for Category 1 Seller Status of GenOn Energy, Inc. subsidiaries.

Filed Date: 6/28/12.

Accession Number: 20120628-5125.

Comments Due: 5 p.m. ET 7/19/12.

Docket Numbers: ER10-2497-004.

Applicants: Alliant Energy Corporate Services, Inc.

Description: Updated market power analysis for Central region of Alliant Energy Corporate Services, Inc.

Filed Date: 6/28/12.

Accession Number: 20120628-5103.

Comments Due: 5 p.m. ET 8/27/12.

Docket Numbers: ER12-1417-002.

Applicants: San Diego Gas & Electric Company.

Description: San Diego Gas & Electric Company submits tariff filing per 35: SDGE Formula Appendix X Compliance Filing to be effective 6/1/2012.

Filed Date: 6/28/12.

Accession Number: 20120628-5080.

Comments Due: 5 p.m. ET 7/19/12.

Docket Numbers: ER12-1821-001.

Applicants: Colorado Highlands Wind, LLC.

Description: COLORADO HIGHLANDS WIND, LLC submits tariff filing per 35.17(b): Colorado Highlands Wind MBR Supplemental Filing June 28, 2012 to be effective 7/20/2012.

Filed Date: 6/28/12.

Accession Number: 20120628-5078.

Comments Due: 5 p.m. ET 7/19/12.

Docket Numbers: ER12-1832-000.

Applicants: Lucky Corridor, LLC.

Description: Lucky Corridor, LLC submits additional information.

Filed Date: 6/28/12.

Accession Number: 20120628-5051.

Comments Due: 5 p.m. ET 7/5/12.

Docket Numbers: ER12-2121-000.

Applicants: Southern California Edison Company.

Description: Distribution Service Agreement with Mogul Energy, Mogul Energy Project to be effective 6/25/2012.

Filed Date: 6/28/12.

Accession Number: 20120628-5023.

Comments Due: 5 p.m. ET 7/19/12.

Docket Numbers: ER12-2122-000.

Applicants: ISO New England Inc., New England Power Pool Participants Committee.

Description: FTR Annual and Monthly Auction Changes—1 of 2 to be effective 10/1/2012.

Filed Date: 6/28/12.

Accession Number: 20120628-5031.

Comments Due: 5 p.m. ET 7/19/12.

Docket Numbers: ER12-2122-001.

Applicants: ISO New England Inc., New England Power Pool Participants Committee.

Description: ISO New England Inc. submits tariff filing per 35.17(b): FTR Annual and Monthly Auction Changes—2 of 2 to be effective 12/31/9998.

Filed Date: 6/28/12.

Accession Number: 20120628-5054.

Comments Due: 5 p.m. ET 7/19/12.

Docket Numbers: ER12-2123-000.

Applicants: Midwest Independent Transmission System Operator, Inc., ITC Midwest LLC.

Description: ITCM-NMEPC-AEC-IPL IA to be effective 8/30/2012.

Filed Date: 6/28/12.

Accession Number: 20120628-5049.

Comments Due: 5 p.m. ET 7/19/12.

Docket Numbers: ER12-2124-000.

Applicants: Westar Energy, Inc.

Description: Westar Energy, Inc. submits tariff filing per 35.37: Market-Based Rate Tariff Revision to be effective 12/31/9998.

Filed Date: 6/28/12.

Accession Number: 20120628-5056.

Comments Due: 5 p.m. ET 7/19/12.

Docket Numbers: ER12-2125-000.

Applicants: GWF Energy LLC.

Description: GWF Energy LLC submits tariff filing per 35.13(a)(2)(iii: Notice of Change to be effective 9/1/2012.

Filed Date: 6/28/12.

Accession Number: 20120628-5079.

Comments Due: 5 p.m. ET 7/19/12.

Docket Numbers: ER12-2126-000.

Applicants: PJM Interconnection, L.L.C.

Description: PJM Interconnection, L.L.C. submits tariff filing per 35.13(a)(2)(iii: Original Service Agreement No. 3332; Queue No. X2-075 to be effective 6/12/2012.

Filed Date: 6/28/12.

Accession Number: 20120628-5091.

Comments Due: 5 p.m. ET 7/19/12.

Docket Numbers: ER12-2127-000.

Applicants: ITC Midwest LLC.

Description: ITC Midwest LLC submits tariff filing per 35.13(a)(2)(iii: Filing of Interchange Agreement to be effective 8/28/2012.

Filed Date: 6/28/12.

Accession Number: 20120628-5104.

Comments Due: 5 p.m. ET 7/19/12.

Docket Numbers: ER12-2128-000.

Applicants: PJM Interconnection, L.L.C.

Description: PJM Interconnection, L.L.C. submits tariff filing per 35.13(a)(2)(iii: Original Service Agreement No. 3344; Queue No. X1-088 to be effective 6/18/2012.

Filed Date: 6/28/12.

Accession Number: 20120628-5111.

Comments Due: 5 p.m. ET 7/19/12.

Docket Numbers: ER12-2129-000.

Applicants: Midwest Independent Transmission System Operator, Inc.

Description: Midwest Independent Transmission System Operator, Inc. submits tariff filing per 35.13(a)(2)(iii: 06-28-12 Schedule 1 Revisions to be effective 7/1/2012.

Filed Date: 6/28/12.

Accession Number: 20120628-5112.

Comments Due: 5 p.m. ET 7/19/12.

Docket Numbers: ER12-2130-000.

Applicants: Consolidated Edison Company of New York, Inc.

Description: Consolidated Edison Company of New York, Inc. submits tariff filing per 35.13(a)(2)(iii: Attachment P—Recharge NY Agreement to be effective 7/1/2012.

Filed Date: 6/28/12.

Accession Number: 20120628-5113.

Comments Due: 5 p.m. ET 7/19/12.

Docket Numbers: ER12-2131-000.

Applicants: PJM Interconnection, L.L.C.

Description: PJM Interconnection, L.L.C. submits tariff filing per 35.13(a)(2)(iii: Original Service Agreement No. 3343; Queue No. X1-005 to be effective 6/18/2012.

Filed Date: 6/28/12.

Accession Number: 20120628-5121.

Comments Due: 5 p.m. ET 7/19/12.

Docket Numbers: ER12-2132-000.

Applicants: ITC Midwest LLC.

Description: ITC Midwest LLC submits tariff filing per 35.13(a)(2)(iii: Filing of Duane Arnold Energy Center Agreement to be effective 8/28/2012.

Filed Date: 6/28/12.

Accession Number: 20120628-5122.

Comments Due: 5 p.m. ET 7/19/12.

Docket Numbers: ER12-2134-000.

Applicants: PJM Interconnection, L.L.C.

Description: PJM Interconnection, L.L.C. submits tariff filing per 35.13(a)(2)(iii: Original Service Agreement No. 3342; Queue No. W1-122 to be effective 6/18/2012.

Filed Date: 6/28/12.

Accession Number: 20120628-5128.

Comments Due: 5 p.m. ET 7/19/12.

Docket Numbers: ER12-2135-000.

Applicants: Orange and Rockland Utilities, Inc.

Description: Orange and Rockland Utilities, Inc. submits tariff filing per 35.13(a)(2)(iii: Attachment K—Recharge NY Operating Agreement and Retail Transmission to be effective 7/1/2012.

Filed Date: 6/28/12.

Accession Number: 20120628-5136.

Comments Due: 5 p.m. ET 7/19/12

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 28, 2012.
Nathaniel J. Davis, Sr.,
Deputy Secretary.

[FR Doc. 2012-16690 Filed 7-6-12; 8:45 am]

BILLING CODE 6717-01-P